SMALL BUSINESS ADMINISTRATION

Small Business Innovation Research (SBIR) Program and Small Business Technology Transfer (STTR) Program Policy Directives

AGENCY: U.S. Small Business Administration.

ACTION: Notice of Webinars

SUMMARY: The U.S. Small Business Administration (SBA) announces that it will be holding public Webinars regarding the recent amendments to the Small Business Innovation Research (SBIR) and Small Business Technology Transfer Program (STTR) Policy Directives. These amendments implement provisions of the National Defense Authorization Act for Fiscal Year 2012. The Defense Authorization Act contained the SBIR/STTR Reauthorization Act of 2011 (Reauthorization Act), which made several key changes to the programs relating to eligibility, the SBIR award process, program administration, and fraud, waste and abuse. SBA has addressed these changes in the directives. The Webinar will provide a basic overview of and respond to questions regarding the changes to the Policy Directives. Although SBA published the directives as final, it is requesting comments on the various amendments made.

DATES: The Webinars are scheduled for August 23rd and August 29th. The Webinars will be conducted by SBA's Office of Investment and Innovation. For additional information, see Section II.

ADDRESSES: The phone number and corresponding web address for the Webinar will be provided to participants upon registration.

FOR FURTHER INFORMATION CONTACT: Office of Investment and Innovation at technology@sba.gov.

SUPPLEMENTARY INFORMATION:

I. Background Information

SBA is publishing Policy Directives for the SBIR and STTR Programs. These directives are an integral part of the implementation of the Reauthorization Act. In order to familiarize the public with the content of the directives, SBA will host two Webinars listed below. Interested parties may choose to attend and participate in these Webinars.

II. Webinar Schedule

| Date and time | Registration closing date
Webinars: | August 23, 2012, 2 p.m.-4 p.m. EST | August 22, 2012, 11:59 p.m. EST.
| August 29, 2012, 2 p.m.-4 p.m. EST | August 28, 2012, 11:59 p.m. EST.

III. Registration

If you are interested in attending one of the Webinars, you must pre-register by sending an email to technology@sba.gov. You must include in the subject line the date of the Webinar for which you wish to participate, and in the body of the email, please provide the following: Participant's Name, Title, Organization Affiliation, Address, Telephone Number, Email Address, and Fax Number. You must submit your email by the applicable registration closing date listed in Section II of this notice. Due to technological constraints, participation is limited to 125 registrants for each of the two Webinars. If demand exceeds capacity for the two Webinars, SBA may consider holding additional Webinars. SBA will announce any additional Webinars through a Federal Register notice and on its web site for the SBIR and STTR Programs at www.sbir.gov.

SBA will confirm the registration via email along with instructions for participation. SBA will post any presentation materials associated with the Webinars on the day of the Webinars at www.sbir.gov. Participants are responsible for ensuring their computer systems are compatible with the Webinar software.

If there are specific questions you would like SBA to address during the Webinars, please send your question(s) to SBA no later than the registration closing date listed in Section II. All participants are encouraged to submit comments regarding the directives at http://www.regulations.gov or hand delivery/courier to Edsel Brown, Assistant Director, Office of Technology, U.S. Small Business Administrator, 409 Third Street SW., Washington, DC 20416. The Webinar will be summarized and become part of the administrative record.

Harry E. Haskins,
Deputy Associate Administrator for Investment and Innovation.

[FR Doc. 2012-18118 Filed 7-27-12; 11:15 am]

BILLING CODE 8025-01-P